FEDERAL RETIREMENT THRIFT INVESTMENT BOARD

Meeting Agenda; April 23, 2018, In Person, 8:30 a.m.

Open Session

1. Approval of the Meeting Minutes for the March 26, 2018 Board Member Meeting

2. Monthly Reports

(a) Participant Activity Report

(b) Legislative Report

3. Quarterly Reports

(c) Investment Performance

(d) Budget Review

(e) Audit Status

4. OCFO Annual Report

5. Internal Audit

6. Annual Financial Audit—CLA

7. DOL Presentation

8. IT Update

Closed Session

Information covered under 5 U.S.C. 552b (c)(9)(B).

Contact Person for More Information: Kimberly Weaver, Director, Office of External Affairs, (202) 942-1640.

Dated: April 12, 2018.
Dharmesh Vashee,
Deputy General Counsel, Federal Retirement Thrift Investment Board.

[FR Doc. 2018-08089 Filed 4-17-18; 8:45 am]

BILLING CODE P